DEPARTMENT OF HOMELAND SECURITY

Transportation Security Administration

New Agency Information Collection Activity Under OMB Review: Law Enforcement Officers (LEOs) Flying Armed

AGENCY: Transportation Security Administration, DHS.

ACTION: 30-Day notice.

SUMMARY: This notice announces that the Transportation Security Administration (TSA) has forwarded the new Information Collection Request (ICR) abstracted below to the Office of Management and Budget (OMB) for review and approval under the Paperwork Reduction Act (PRA). The ICR describes the nature of the information collection and its expected burden. The collection involves gathering information from Federal, State, local, and tribal armed law enforcement officers (LEOs) who require specialized screening at the TSA checkpoint.

DATES: Send your comments by January 28, 2019. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Information Technology (IT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on July 27, 2018, 83 FR 35675.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Law Enforcement Officers (LEOs) Flying Armed.

Type of Request: New collection.

OMB Control Number: 1652-XXXX.

Form(s): TSA Form 413A, Checkpoint Sign-In Log.

Affected Public: Federal, state, local, and tribal armed LEOs.

Abstract: Under 49 CFR 1540.111(b), LEOs may carry a firearm or other weapons while in the performance of law enforcement duties at the airport. In addition, LEOs may fly armed if they meet the requirements of 49 CFR 1544.219. TSA has established a specialized screening process for Federal, State, local, and tribal LEOs when they are flying armed. To document completion of TSA's specialized screening process, LEOs who traverse a TSA checkpoint must complete TSA Form 413A, Checkpoint Sign-in Log. This process confirms, documents, and memorializes that LEOs have met the requirements of 49 CFR 1544.219, presented themselves at the airport for specialized screening with authenticated credentials, and are flying armed to conduct or in furtherance of official law enforcement duties.

Number of Respondents: 68,000.

Estimated Annual Burden Hours: An estimated 1,133 hours annually.

Dated: December 18, 2018.
Christina A. Walsh,
TSA Paperwork Reduction Act Officer, Information Technology.

[FR Doc. 2018-27942 Filed 12-26-18; 8:45 am]

BILLING CODE 9110-05-P